DEPARTMENT OF THE TREASURY

Office of Foreign Assets Control

Update to the List of Medical Supplies for Ukraine-Related Sanctions

AGENCY: Office of Foreign Assets Control, Treasury.

ACTION: Notice, publication of updated list of items defined as medical supplies.

SUMMARY: The Department of the Treasury's Office of Foreign Assets Control (OFAC) is publishing the list of items defined as medical supplies (List of Medical Supplies) and generally licensed for exportation or reexportation to the Crimea region of Ukraine pursuant to General License 4 under Executive Order 13685 of December 19, 2014, which is part of OFAC's Ukraine-related sanctions program. OFAC is publishing the List of Medical Supplies both as originally posted on December 19, 2014 and as updated on August 12, 2016 to include additional items.

DATES: Effective Date: August 12, 2016.

FOR FURTHER INFORMATION CONTACT: The Department of the Treasury's Office of Foreign Assets Control: Assistant Director for Licensing, tel.: 202-622-2480, Assistant Director for Regulatory Affairs, tel: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The text of the List of Medical Supplies, General License 4 under the Ukraine-related sanctions program, and additional information concerning OFAC are available from OFAC's Web site (www.treasury.gov/ofac).

Background

On December 19, 2014, OFAC issued and posted on its Web site (www.treasury.gov/ofac) General License 4 under the Ukraine-related sanctions program to authorize the exportation or reexportation from the United States or by a U.S. person of agricultural commodities, medicine, medical supplies, and replacement parts to the Crimea region of Ukraine. General License 4 defined the term “medical supplies” to mean those medical devices, as defined in paragraph (d)(3) of General License 4, that are included on the List of Medical Supplies on OFAC's Web site (www.treasury.gov/ofac) on the Ukraine-related Sanctions page. On the same day, OFAC also posted the List of Medical Supplies on its Web site. Most recently, on August 12, 2016, OFAC updated the List of Medical Supplies to include additional items.

As highlighted in the Note to paragraph (d)(4) of General License 4, the List of Medical Supplies is maintained on OFAC's Web site and will be published in the Federal Register, as will any changes to the list. Accordingly, both the current version of the List of Medical Supplies and the original version of the List of Medical Supplies are reproduced below. The versions below correct a typographical error in versions that were previously published on OFAC's Web site.

List of Medical Supplies as of August 12, 2016

On August 12, 2016, OFAC updated the List of Medical Supplies on its Web site to read as follows:

List of Medical Supplies (Updated August 12, 2016)

The list below comprises the medical supplies defined in Ukraine General License 4.

General Medical Equipment and Supplies

• Adhesive designed for human use

• Adhesive remover designed for human use

• Antiseptic wipes for human use (including alcohol, antimicrobial, benzalkonium, betadine, iodine, and witch hazel)

• Beds: Hospital beds, cribs, or bassinets; including mattresses, overlays, pillows, and bumpers

• Blood lancets

• Blood pressure monitors, gauges, cuffs, aneroids, or infusors

• Bottles (prescription)

• Cabinets: Medical supply or pharmaceutical

• Canes, crutches, walkers, rollators

• Capnographs

• Carts: Medical, medical utility, medical supply, food service, or hospital laundry carts

• Catheters—all sizes and types; including kits

• Chairs: Exam, treatment, surgical, dental, or phlebotomy

• Clinical basins, bowls, baths, pans, urinals, bags, and buckets; and holding devices for such items

• Clinical swabs, applicators, specimen collectors, sponges, pads, tongue depressors, wooden spoons, cotton balls, or cotton rolls

• Coils, guidewire

• Contraceptives (inter-uterine devices (IUDs), hormonal therapy methods, barrier methods), and condoms

• Continuous positive airway pressure (CPAP) systems and all components

• Ear plugs and muffs

• Ear syringes

• Ear wax removers

• Endoscopic devices including laryngoscopes, laparoscopes, anascopes, proctoscopes, arthroscopes, sinuscopes, dematoscopes, ophthalmoscopes, sigmoidscopes, otoscopes, retinoscopes, or colposcopes

• Floor mats: Safety, anti-fatigue or special-purpose medical floor mats

• Forceps

• Guidewires, all

• Human body or cadaver bags and shrouds

• Human body positioners including pads, wedges, cradles, pillows, rests, straps, supports, and holders

• Human specimen collectors and containers (e.g., urine, blood, tissue)

• Humidifiers

• Hydrocollator heating units

• IV sets, bags, and armboards

• Jars and containers designed for medical supplies and instruments less than 5 L internal volume

• Lights and lamps: Surgical, or medical exam, magnifying

• Limb prosthesis devices

• Manikins: Medical training, CPR

• Medical bags for medical supplies and equipment; including pre-packed bags

• Medical bandages, gauze, dressings, tape, swabs, sponges, and burn dressings

• Medical carafes, cups, containers and tumblers

• Medical casts, padding; and casting and removal equipment

• Medical defibrillators

• Medical diagnostic kits, point-of-care; including EAR99 reagents

• Medical flowmeters: Oxygen & air

• Medical labels, labellers, stickers, forms, charts, signage, tags, cards, tape, wrist bands, documents, brochures, and graphics

• Medical lavage systems

• Medical linens (e.g., blankets, sheets, pillow cases, towels, washcloths, drapes, covers)

• Medical penlights

• Medical pumps

• Medical scissors

• Medical tubing or hoses less than 2″ diameter; including associated adaptors, connectors, caps, clamps, retainers, brackets, valves, washers, vents, stopcocks, or flow sensors; and peristaltic pumps with flowrates of less than 600 liters/hr for such tubing (Note: Does not include tubing made of butyl rubber or greater than 35% fluoropolymers)

• Medicine cups

• Monitor for glucose management

• Non-electronic patient medical record file systems and organizers

• Orthopedic supports, braces, wraps, shoes, boots, or pads

• Orthopedic traction devices and tables

• Otology sponges

• Oxygen apparatus, all

• Paraffin baths

• Patient heating and cooling devices: Pads, packs, bottles, bags, warmers, blankets, patches, lamps, bags

• Patient safety devices including vests, aprons, finger mitts, limb or body holders, jackets, belts, restraints, cuffs, straps, or protectors

• Patient transfer chairs, lifts, benches, boards, slides, discs, slings, and sheets

• Patient vital-sign monitoring devices

• Patient wheelchairs, chairs, gurneys, stretchers, mats, and cots

• Privacy screens and curtains

• Pulse oximeters

• Reflex hammers

• Refrigerator: Compartmental for morgues

• Safety poles, rails, handles, benches, grab bars, commode aids, and shower aids

• Scales, stadiometers, rulers, sticks, tapes, protractors, volumeters, gauges, or callipers designed for human measurement

• Single-use medical procedure trays and kits

• Speculums

• Spirometers

• Splints

• Stands: IV, instrument, solution, or hamper

• Stethoscopes

• Stools: Designed for clinical use

• Surgical sutures and staples; and removal kits

• Syringes, aspirators, cannulas, and needles—all sizes and types; including kits

• Tables: Operating, exam, therapy, overbed, treatment, medical utility, or medical instrument

• Telemetry pouches designed for human use

• Tents: Pediatric, aerosol, and mist

• Thermometers for measuring human body temperature

• Tourniquets

• Ventilator: Adult and tubing and accessories

• Warmers: Bottle, gel, lotion, or blanket

Anaesthesiology

• Air bags and tidal volume bags

• Air bellows

• Anaesthesia circuits

• Anaesthesia machines, vaporizers, nebulizers, and inhalers designed for individual human use

• Anaesthesia masks (including laryngeal)

• Anti-siphon equipment

• Block and epidural trays packaged for individual use

• Endotrach tubes

• Head straps and harnesses

• Hyperinflation systems

• In-line filters and cartridges, thermometers, CO2 detectors, sodalime canisters, and temperature and moisture exchangers (Note: Gas mask canisters, other than sodalime canisters designed for anaesthesia systems, require a specific license)

• Intubation sets, probes and related equipment

• Anaesthesiometers

• Oral airways

• Peripheral nerve stimulators

• Anaesthesia pressure tubes and controllers

• Cardiopulmonary resuscitation (CPR) training manikins and lung bags

• Vibration dampening mounts

Apparel

• Medical gowns, scrubs, aprons, uniforms, lab coats, and coveralls; only those without integrated hoods

• Patient clothing including gowns, slippers, underpads, or undergarments

• Head or beard covers and nets

• Medical shoe and boot covers

• Surgical sleeve protectors

• Ventilated Safety eyeshields and goggles (does not include full face shield or indirectly-vented goggles)

• Disposable latex, nitrile, polyethylene, vinyl gloves/finger cots or other medical gloves

• Surgical face or dust masks (does not include masks with respirators)

Cardiology

• Ablation devices

• Balloons extractor, retrieval

• Cardiac monitors: Implantable or external

• Cardiac pacemakers

• Cardiac programmers

• Cardiopulmonary oxygenation systems, devices, and monitors

• Coagulation machines

• Electrocardiography machines

• Filters: Arterial

• Grafts: Peripheral bypass

• Heart positioners: Surgical revascularization

• Heart valves: Surgical, transcatheter (non-surgical)

• Inflation devices: interventional

Dental Equipment and Supplies

• Bone graft matrices

• Dental and oral implants or devices

• Dental instrument cases, trays, mats or tray liners, racks, covers, wraps, stands, holders, stringers, or protectors

• Dental instruments—all types and sizes

• Denture and temporary oral device containers

• Dentures, crowns, molds, orthodontics, all

• Tooth and denture brushes

• Yankauers

Gynecology & Urology

• Bladder control pads, briefs, liners, underwear, pants, and diapers

• Bladder scanners

• Enema sets

• Extracorporeal lithotripters

• Fecal/stool management devices, kits, and catheters

• Feminine hygiene products

• Pouches, urostomy

Inherited Preventative Care

• Genetic testing products

Laboratory

• Autoclaves (20 liters or smaller only) for medical instrument sterilization and accessories

• Automated blood culture systems

• Automated clinical chemistry analyzers for patient care

• Bench-top dry bath incubators

• Clinical immunoassay analyzers

• Clinical laboratory water baths less than 10 liter

• Coagulation analyzers

• Co-oximeters for haemoglobin analysis

• Electrolyte analyzers

• Flow cytometry accessories, reagents, and components

• Hematology analyzers

• Histology and cytology strainers and tissue baths

• Laboratory balances and scales not to exceed 10 Kg

• Laboratory hot plates with less than 1.0 sq. ft. heating surface

• Laboratory pH meter (with or without temperature probe)

• Light microscopes

• Luminometers

• Medical bone densitometers

• Medical differential counters

• Medical refrigerators and freezers with less than 5.0 cu. ft. internal volume

• Medical specimen centrifuges

• Microplate readers/washers

• Osmometers

• Patient blood gas analyzers

• Pipettes

• Spectrophotometers, photometers, and colorimeters designed for clinical use

• Urinalysis analyzers

Nephrology

• Hemodialysis machines; and dialysis filters designed for such machines (Note: Other dialysis equipment, filters, and parts not used for hemodialysis require a specific license and may be controlled under 15 CFR, part. 774, supp. 1, ECCN 2B352.d)

• Hemodialysis connection or tubing kits

Neurology

• Electroencephalography machines

• Neurostimulators, implantable

Obstetrics and Maternity Care

• Assisted reproductive technology and related equipment

• Incubators/Isolettes

• Infant radiant warmer and parts and accessories

• Neonatal equipment (phototherapy, nasal CPAP, etc. and all components)

• Umbilical cord clamps

• Ventilator: Infant/pediatric and tubing and accessories

Ophthalmology and Optometry

• Contact Lens cleaning solutions

• Contact Lenses, corrective

• Eyecharts

• Glasses, corrective

• Phoropters

• Tonomets

• Vision/Optometry related machines and supplies

Otology and Neurotology

• Hearing aids, accessories, and components

Physical and Occupational Therapy

• Aquatic floats and training devices

• Balance pads, platforms, and beams

• Bath cubes, therapy

• Boots, mitts, and liners for therapeutic pain relief

• Cognitive measuring devices and equipment

• Dining aids

• Electrotherapy, muscle stimulators, and tens units

• Ergometers

• Exercise bars

• Exercise table

• Fine motor assessment equipment designed for human use

• Goniometers

• Hand bars

• Hydraulic dynamometer

• Manipulation boards

• Massaging equipment

• Mat Platforms

• Medical Whirlpools

• Mobility platforms, parallel bars, ladders, stairs

• Orthopedic shoes, boots, etc.

• Parallel bars

• Pedometers

• Protective headgear

• Rehabilitation exercise, weights, band, balls, boards, and mobility equipment

• Rulonmeters

• Scoliometer

• Tactile sensation, sensitization, and desensitization equipment

• Therapeutic putty

• Ultrasound stimulators

Radiology

• Computer tomography scanners (CT, MDCT)

• Contrasting agents, both injectable or non-injectable

• Magnetic resonance imaging (MRI) machines

• Medical ultrasound machines

• Medical/Dental film

• Nuclear medicine imaging machines

• Positron Emission Tomography (PET)

• PET cyclotron machines

• PET radiopharmaceutical tracer machines, including cassettes

• Scintillation Camera/Anger cameras for medical imaging

• Single Photon Emission Computed Tomography (SPECT) machines

• X-ray machines, including mammography machines

• Parts and accessories for medical imaging devices above that do not contain nuclear or chemical components

Sterilization

• Aseptic, germicidal, or disinfectant wipes or clothes for medical equipment, devices or furniture

• Ready-to-use disinfectant in 32 oz. containers or less

• Aseptic, germicidal, or medical-grade soap, detergent, pre-soak, or rinse in 1 gallon containers or less

• Hand sanitizer, lotion, soap, scrub, wash, gel, or foam; including dispensing devices

• Medical cleaning brushes for equipment, patients, and furniture

• Sterilization or disinfection indicator strips, tape, or test packs

• Medical instrument sterilization pouches, mats, protector guards, or tubing

• Sterilization containers or cases less than 0.3 cu. ft.

• Autoclaves with chamber size less than 0.3 cu. ft.; including trays, containers, cassettes, cases, and filters for such systems.

Surgery

• Blood transfusion equipment

• Cervical fusion kits

• Chest drains

• Cosmetic or reconstructive implants (jaw implants, breast implants, skin grafts)

• Electrosurgery devices and supporting equipment

• Lubricant specially-formulated for surgical equipment in 1 gallon containers or less

• Orthopedic plates/screws, fixators, implants, cement

• Stents—all types and sizes

• Stockinettes

• Surgical case carts

• Surgical clean-up kits

• Surgical clips

• Surgical imaging machines; including image-guiding surgery products, ear, nose and throat

• Surgical instrument cases, trays, mats or tray liners, racks, covers, wraps, stands, holders, stringers, or protectors

• Surgical instruments—all types and sizes

• Surgical linens, drapes, or covers

• Surgical mesh

• Surgical shunts

• Surgical smoke evacuators and specialized supporting equipment

• Tissue stabilizers, surgical revascularizations

• Wound drainage equipment

EAR99-classified components, accessories, and optional equipment that are designed for and are for use with an EAR99-classified medical device included elsewhere on the list.

List of Medical Supplies From December 10, 2014 Through August 11, 2016

Below is the List of Medical Supplies for General License 4 in effect from December 19, 2014 through August 11, 2016:

List of Medical Supplies (December 19, 2014)

The list below comprises the medical supplies defined in Ukraine General License 4.

General Medical Equipment and Supplies

• Syringes, cannulas, and needles—all sizes and types; including kits

• Catheters—all sizes and types; including kits

• Coils, guidewire

• Guidewires, all

• Medical tubing or hoses less than 2″ diameter; including associated adaptors, connectors, caps, clamps, retainers, brackets, valves, washers, vents, stopcocks, or flow sensors; and peristaltic pumps with flowrates of less than 600 liters/hr for such tubing (Note: Does not include tubing made of butyl rubber or greater than 35% fluoropolymers)

• Endoscopic devices including laryngoscopes, laparoscopes, anascopes, proctoscopes, arthroscopes, sinuscopes, dematoscopes, ophthalmoscopes, sigmoidscopes, otoscopes, retinoscopes, or colposcopes

• Blood pressure monitors, gauges, cuffs, aneroids, or infusors

• Monitor for glucose management

• Medical defibrillators

• Medical lavage systems

• IV sets, bags, and armboards

• Medical penlights

• Stethoscopes

• Speculums

• Medical scissors

• Forceps

• Single-use medical procedure trays and kits

• Medical diagnostic kits, point-of-care; including EAR99 reagents

• Reflex hammers

• Blood lancets

• Ear plugs and muffs

• Otology sponges

• Ear syringes

• Ear wax removers

• Clinical swabs, applicators, specimen collectors, sponges, pads, tongue depressors, wooden spoons, cotton balls, or cotton rolls

• Antiseptic wipes for human use (including alcohol, antimicrobial, benzalkonium, betadine, iodine, and witch hazel)

• Splints

• Canes, crutches, walkers, rollators

• Patient wheelchairs, chairs, gurneys, stretchers, mats, and cots

• Patient transfer chairs, lifts, benches, boards, slides, discs, slings, and sheets

• Safety poles, rails, handles, benches, grab bars, commode aids, and shower aids

• Patient vital-sign monitoring devices

• Limb prosthesis devices

• Orthopedic supports, braces, wraps, shoes, boots, or pads

• Medical casts, padding; and casting and removal equipment

• Orthopedic traction devices and tables

• Human body positioners including pads, wedges, cradles, pillows, rests, straps, supports, and holders

• Human specimen collectors and containers (e.g., urine, blood, tissue)

• Medical bandages, gauze, dressings, tape, swabs, sponges, and burn dressings

• Surgical sutures and staples; and removal kits

• Tourniquets

• Thermometers for measuring human body temperature

• Clinical basins, bowls, baths, pans, urinals, bags, and buckets; and holding devices for such items

• Medical carafes, cups, containers and tumblers

• Medicine cups

• Syringe aspirators

• Medical bags for medical supplies and equipment; including pre-packed bags

• Condoms

• Medical labels, labellers, stickers, forms, charts, signage, tags, cards, tape, wrist bands, documents, brochures, and graphics

• Non-electronic patient medical record file systems and organizers

• Beds: Hospital beds, cribs, or bassinets; including mattresses, overlays, pillows, and bumpers

• Medical linens (e.g., blankets, sheets, pillow cases, towels, washcloths, drapes, covers)

• Chairs: Exam, treatment, surgical, dental, or phlebotomy

• Stools: Designed for clinical use

• Stands: IV, instrument, solution, or hamper

• Carts: Medical, medical utility, medical supply, food service, or hospital laundry carts

• Tables: Operating, exam, therapy, overbed, treatment, medical utility, or medical instrument

• Jars and containers designed for medical supplies and instruments less than 5 L internal volume

• Privacy screens and curtains

• Cabinets: Medical supply or pharmaceutical

• Floor mats: Safety, anti-fatigue or special-purpose medical floor mats

• Hydrocollator heating units

• Warmers: Bottle, gel, lotion, or blanket

• Patient heating and cooling devices: Pads, packs, bottles, bags, warmers, blankets, patches, lamps, bags

• Paraffin baths

• Lights and lamps: Surgical, or medical exam, magnifying

• Scales, stadiometers, rulers, sticks, tapes, protractors, volumeters, gauges, or calipers designed for human measurement

• Patient safety devices including vests, aprons, finger mitts, limb or body holders, jackets, belts, restraints, cuffs, straps, or protectors

• Human body or cadaver bags and shrouds

• Adhesive designed for human use

• Adhesive remover designed for human use

• Telemetry pouches designed for human use

Anaesthesiology

• Air bags and tidal volume bags

• Air bellows

• Anaesthesia circuits

• Anaesthesia machines, vaporizers, nebulizers, and inhalers designed for individual human use

• Anaesthesia masks (including laryngeal)

• Anti-siphon equipment

• Block and epidural trays packaged for individual use

• Endotrach tubes

• Head straps and harnesses

• Hyperinflation systems

• In-line filters and cartridges, thermometers, CO2 detectors, sodalime canisters, and temperature and moisture exchangers (Note: Gas mask canisters, other than sodalime canisters designed for anaesthesia systems, require a specific license)

• Intubation sets, probes and related equipment

• Anaesthesiometers

• Oral airways

• Peripheral nerve stimulators

• Anaesthesia pressure tubes and controllers

• Cardiopulmonary resuscitation (CPR) training manikins and lung bags

• Vibration dampening mounts

Apparel

• Medical gowns, scrubs, aprons, uniforms, lab coats, and coveralls; only those without integrated hoods

• Patient clothing including gowns, slippers, underpads, or undergarments

• Head or beard covers and nets

• Medical shoe and boot covers

• Surgical sleeve protectors

• Ventilated Safety eyeshields and goggles (does not include full face shield or indirectly-vented goggles)

• Disposable latex, nitrile, polyethylene, vinyl gloves/finger cots or other medical gloves

• Surgical face or dust masks (does not include masks with respirators)

Cardiology

• Electrocardiography machines

Dental Equipment and Supplies

• Dental instruments—all types and sizes

• Dental instrument cases, trays, mats or tray liners, racks, covers, wraps, stands, holders, stringers, or protectors

• Dental and oral implants or devices

• Tooth and denture brushes

• Denture and temporary oral device containers

• Yankauers

Gynecology & Urology

• Bladder scanners

• Pouches, urostomy

• Bladder control pads, briefs, liners, underwear, pants and diapers

• Feminine hygiene products

• Fecal/stool management devices, kits, and catheters

• Enema sets

Laboratory

• Laboratory balances and scales not to exceed 10 Kg

• Patient blood gas analyzers

• Medical specimen centrifuges

• Automated clinical chemistry analyzers for patient care

• Coagulation analyzers

• Co-oximeters for haemoglobin analysis

• Medical bone densitometers

• Medical differential counters

• Bench-top dry bath incubators

• Electrolyte analyzers

• Hematology analyzers

• Histology and cytology strainers and tissue baths

• Laboratory hot plates with less than 1.0 sq. ft. heating surface

• Clinical immunoassay analyzers

• Luminometers

• Laboratory pH meter (with or without temperature probe)

• Automated blood culture systems

• Microplate readers/washers

• Light microscopes

• Osmometers

• Pipettes

• Medical refrigerators and freezers with less than 5.0 cu. ft. internal volume

• Spectrophotometers, photometers, and colorimeters designed for clinical use

• Urinalysis analyzers

• Clinical laboratory water baths less than 10 liter

Nephrology

• Hemodialysis machines; and dialysis filters designed for such machines (Note: Other dialysis equipment, filters, and parts not used for hemodialysis require a specific license and may be controlled under 15 CFR, part 774, supp. 1, ECCN 2B352.d)

• Hemodialysis connection or tubing kits

Neurology

• Electroencephalography machines

Obstetrics and Maternity Care

• Umbilical cord clamps

Ophthalmology and Optometry

• Contact Lenses, corrective

• Contact Lens cleaning solutions

• Glasses, corrective

• Eyecharts

Physical and Occupational Therapy

• Parallel bars

• Exercise bars

• Hand bars

• Mat Platforms

• Exercise table

• Medical Whirlpools

• Mobility platforms, parallel bars, ladders, stairs

• Balance pads, platforms, and beams

• Cognitive measuring devices and equipment

• Manipulation boards

• Dining aids

• Hydraulic dynamometer

• Scoliometer

• Goniometers

• Pedometers

• Ergometers

• Rulonmeters

• Fine motor assessment equipment designed for human use

• Tactile sensation, sensitization, and desensitization equipment

• Rehabilitation exercise, weights, band, balls, boards, and mobility equipment

• Therapeutic putty

• Aquatic floats and training devices

• Protective headgear

• Electrotherapy, muscle stimulators, and tens units

• Ultrasound stimulators

• Massaging equipment

Radiology

• Medical ultrasound machines

Sterilization

• Aseptic, germicidal, or disinfectant wipes or clothes for medical equipment, devices or furniture

• Ready-to-use disinfectant in 32 oz. containers or less

• Aseptic, germicidal, or medical-grade soap, detergent, pre-soak, or rinse in 1 gallon containers or less

• Hand sanitizer, lotion, soap, scrub, wash, gel, or foam; including dispensing devices

• Medical cleaning brushes for equipment, patients, and furniture

• Sterilization or disinfection indicator strips, tape, or test packs

• Medical instrument sterilization pouches, mats, protector guards, or tubing

• Sterilization containers or cases less than 0.3 cu. ft.

• Autoclaves with chamber sizes less than 0.3 cu. ft.; including trays, containers, cassettes, cases, and filters for such systems

Surgery

• Surgical clips

• Surgical instruments—all types and sizes

• Surgical instrument cases, trays, mats or tray liners, racks, covers, wraps, stands, holders, stringers, or protectors

• Stents—all types and sizes

• Surgical linens, drapes, or covers

• Chest drains

• Surgical case carts

• Blood transfusion equipment

• Surgical clean-up kits

• Wound drainage equipment

• Stockinettes

• Surgical mesh

• Surgical smoke evacuators and specialized supporting equipment

• Electrosurgery devices and supporting equipment

• Lubricant specially-formulated for surgical equipment in 1 gallon containers or less

EAR99-classified components, accessories, and optional equipment that are designed for and are for use with an EAR99-classified medical device included elsewhere on the list.

Dated: May 18, 2017.
Andrea M. Gacki,
Acting Director, Office of Foreign Assets Control.

[FR Doc. 2017-10520 Filed 5-22-17; 8:45 am]

BILLING CODE 4810-AL-P